DEPARTMENT OF HEALTH AND HUMAN SERVICES

National Institutes of Health

National Library of Medicine Notice of Meetings Amended Notice of Meeting

Notice is hereby given of a change in the meeting of the Special Emphasis Panel, October 15-16, 2014, 9:00 a.m. to 6:00 p.m., National Library of Medicine, 6705 Rockledge Drive, Suite 301, Bethesda, MD 20817 which was published in the Federal Register on June 9, 2014, 79 FR 110, Page 32969.

The meeting of the Special Emphasis Panel will be held on October 23-24, 2014 instead of October 15-16, 2014, at 9:00 a.m. and will end at 6:00 p.m. The meeting is closed to the public.

Dated: August 19, 2014.
Michelle Trout,
Program Analyst, Office of the Federal Advisory Committee Policy.

[FR Doc. 2014-20024 Filed 8-21-14; 8:45 am]

BILLING CODE 4140-01-P